DEPARTMENT OF HOMELAND SECURITY

Federal Emergency Management Agency

[Docket ID FEMA-2008-0010]

National Fire Academy Board of Visitors

AGENCY: Federal Emergency Management Agency, DHS.

ACTION: Committee Management; Notice of Open Federal Advisory Committee Meeting.

SUMMARY: The National Fire Academy Board of Visitors will meet on October 2-4, 2008.

DATES: The meeting will take place Thursday, October 2, 2008, from 8:30 a.m. to 4 p.m., e.s.t.; Friday, October 3, 2008, from 9 a.m. to 5 p.m., e.s.t.; and Saturday, October 4, 2008, from 9 a.m. to 11:30 a.m., e.s.t. Comments must be submitted by Thursday, October 9, 2008.

ADDRESSES: Members of the public who wish to obtain information for the public meeting may contact Teressa Kaas as listed in the FOR FURTHER INFORMATION CONTACT section by September 30, 2008. Members of the public may participate by coming to the National Emergency Training Center, Building H, Room 300, Emmitsburg, Maryland. Members of the general public who plan to participate in the meeting should contact Teressa Kaas as listed in the FOR FURTHER INFORMATION CONTACT section, on or before September 30, 2008. Requests to have written material distributed to each member of the committee prior to the meeting should reach the contact person at the address below by September 30, 2008. Send written material to Teressa Kaas, 16825 South Seton Avenue, Emmitsburg, Maryland 21727. Comments must be identified by Docket ID FEMA-2008-0010 and may be submitted by one of the following methods:

• Federal eRulemaking Portal: http://www.regulations.gov. Follow the instructions for submitting comments.

• E-mail: FEMA-RULES@dhs.gov. Include Docket ID in the subject line of the message.

• Fax: (866) 466-5370.

• Mail: Teressa Kaas, 16825 South Seton Avenue, Emmitsburg, Maryland 21727.

Instructions: All submissions received must include the Docket ID for this action. Comments received will be posted without alteration at www.regulations.gov, including any personal information provided.

Docket: For access to the docket to read background documents or comments received by the National Fire Academy Board of Visitors, go to http://www.regulations.gov.

FOR FURTHER INFORMATION CONTACT: Teressa Kaas, 16825 South Seton Avenue, Emmitsburg, Maryland 21727, telephone (301) 447-1117, fax (301) 447-1173, and e-mail teressa.kaas@dhs.gov.

SUPPLEMENTARY INFORMATION: Notice of this meeting is given under the Federal Advisory Committee Act, 5 U.S.C. App. (Pub. L. 92-463). The National Fire Academy Board of Visitors will be holding a meeting for purposes of reviewing U.S. Fire Administration/National Fire Academy Program activities, including the status of campus maintenance and capital improvements, the budget update, the annual Ethics Briefing, the Learning Management System update, the National Fire Programs update, the Education, Training and Partnerships update, the Academy update, and Board discussions and new items. This meeting is open to the public.

The Chairperson of the National Fire Academy Board of Visitors shall conduct the meeting in a way that will, in his judgment, facilitate the orderly conduct of business. During its meeting, the committee welcomes public comment; however, comments will be permitted only during the public comment period. The Chairperson will make every effort to hear the views of all interested parties. Please note that the meeting may end early if all business is completed.

Information on Services for Individuals With Disabilities

For information on facilities or services for individuals with disabilities or to request special assistance at the meeting, contact Teressa Kaas as soon as possible.

Dated: September 5, 2008.
Denis G. Onieal,
Superintendent, National Fire Academy, U.S. Fire Administration, Federal Emergency Management Agency.

[FR Doc. E8-21127 Filed 9-10-08; 8:45 am]

BILLING CODE 9110-17-P